NUCLEAR REGULATORY COMMISSION

Notice of Availability of Meeting Notice for Discussion of Draft Interim Staff Guidance Document for Fuel Cycle Facilities

AGENCY: Nuclear Regulatory Commission.

ACTION: Meeting notice and agenda.

FOR FURTHER INFORMATION CONTACT: James Smith, Project Manager, Technical Support Group, Division of Fuel Cycle Safety and Safeguards, Office of Nuclear Material Safety and Safeguards, U.S. Nuclear Regulatory Commission, Washington, DC 20005-0001. Telephone: (301) 415-6459; fax number: (301) 415-5370; e-mail: jas4@nrc.gov.

SUPPLEMENTARY INFORMATION:

I. Introduction

The Nuclear Regulatory Commission (NRC) continues to prepare and issue Interim Staff Guidance (ISG) documents for fuel cycle facilities. These ISG documents provide clarifying guidance to the NRC staff when reviewing licensee integrated safety analyses, license applications or amendment requests or other related licensing activities for fuel cycle facilities under 10 CFR Part 70. Currently, the NRC has revised one of these documents, Draft ISG-FCSS-10, Rev. 2, based on comments received on Revision 1. The NRC plans to discuss the resolution of these comments at a public meeting to be held April 28, 2006, at the NRC Headquarters Auditorium in Rockville, Maryland.

II. Summary

The purpose of this notice is to provide the public with a meeting notice and proposed agenda for a public meeting scheduled for April 28, 2006, at the NRC Headquarters Auditorium in which the NRC will discuss revision of the draft guidance document, FCSS-ISG-10, Revision 2, which provides guidance to NRC staff to determine whether the minimum margin of subcriticality is sufficient to provide an adequate assurance of subcriticality for safety to demonstrate compliance with the performance requirements of 10 CFR 70.61(d), and its resolution of comments received on Revision 1. Revision 2 of the draft ISG and the ADAMS accession number for an associated table of comment resolution were previously noticed in the Federal Register on March 20, 2006. The agenda for the April 28, 2006, meeting is provided below.

III. Proposed Agenda

Public Meeting, Scheduled for April 28, 2006, To Discuss Draft FCSS-ISG-10, Revision 2, “Justification for Minimum Margin of Subcriticality for Safety”

7:30 am Check in for security badging @ Two White Flint North, 11545 Rockville Pike

8 a.m. Purpose of workshop, introductions, agenda, and discussion process

8:15 a.m. NRC presentation on context/intent of FCSS-ISG-10

8:30 a.m. NRC summary of major changes to current version of FCSS-ISG-10

8:45 a.m. Section-by-section discussion of comments received and changes made

11:45 a.m. Meeting wrap-up

12:30 p.m. Adjourn

IV. Further Information

The documents related to this action are available electronically at the NRC's Electronic Reading Room at http://www.nrc.gov/reading-rm/adams.html. From this site, you can access the NRC's Agencywide Documents Access and Management System (ADAMS), which provides text and image files of NRC's public documents. The ADAMS ascension numbers for the documents related to this notice are provided in the following table. If you do not have access to ADAMS or if there are problems in accessing the documents located in ADAMS, contact the NRC Public Document Room (PDR) Reference staff at 1-800-397-4209, 301-415-4737, or by e-mail to pdr@nrc.gov.

Interim staff guidance | ADAMS accession No.
Draft FCSS Interim Staff Guidance-10, Revision 2 | ML060260479
Comments on Draft FCSS ISG-10, Rev.1 and Resolution | ML060470150

This document may also be viewed electronically on the public computers located at the NRC's PDR, O 1 F21, One White Flint North, 11555 Rockville Pike, Rockville, MD 20852. The PDR reproduction contractor will copy documents for a fee.

Dated at Rockville, Maryland this 6th day of April 2006.
For the Nuclear Regulatory Commission.
Melanie A. Galloway,
Chief, Technical Support Group, Division of Fuel Cycle Safety and Safeguards, Office of Nuclear Material Safety and Safeguards.

[FR Doc. E6-5700 Filed 4-17-06; 8:45 am]

BILLING CODE 7590-01-P